ENVIRONMENTAL PROTECTION AGENCY

40 CFR Part 80

[AMS-FRL-7096-6]

RIN 2060-AJ69

Revision to the Requirements on Variability in the Composition of Additives Certified Under the Gasoline Deposit Control Program; Proposed Rule

AGENCY: Environmental Protection Agency (EPA).

ACTION: Proposed rule.

SUMMARY: Deposits that form in gasoline-fueled motor vehicle engines and fuel supply systems have been shown to increase emissions of harmful air pollutants. All gasoline used in the U.S. must contain additives that have been certified with EPA as effective in limiting the formation of such deposits. During certification, additive manufacturers must provide EPA with information on additive composition. To ensure that in-use additives meet EPA requirements, manufacturers are required to limit variation in the composition of additive production batches from that reported during certification.

Today's action proposes changes to the information that must be provided on additive composition by the manufacturer at the time of certification. We are also proposing clarifications to the requirements associated with limiting variability in additive production batches. These changes would address additive manufacturer concerns that compliance with the existing requirements would be burdensome and difficult, while maintaining the emissions control benefits of the gasoline deposit control program.

In the “Rules and Regulations” section of this Federal Register, we are making these regulatory changes as a direct final rule without a prior proposal because we view these changes as noncontroversial revisions and anticipate no adverse comment. We have explained our reasons for these revisions in the preamble to the direct final rule. If we receive no adverse comment, we will not take further action on this proposed rule. If we receive adverse comment, we will withdraw the amendments, paragraphs, or sections of the direct final rule receiving such comment and those amendments, paragraphs, or sections will not take effect. We will address all public comments in a subsequent final rule based on this proposed rule. We will not institute a second comment period on this action. Any parties interested in commenting must do so at this time. We are not planning to hold a public hearing regarding this action.

DATES: Written comments must be received by January 4, 2002.

ADDRESSES: Interested parties may submit written comments in response to this notice (in duplicate if possible) to Public Docket No. A-2001-15, at: Air Docket Section, U.S. Environmental Protection Agency, Attention: Docket No. A-2001-15, First Floor, Waterside Mall, Room M-1500, 401 M Street SW., Washington, DC 20460 (Telephone 202-260-7548; Fax 202-260-4400). We also request that a copy of the comments be sent to Jeff Herzog by mail at, U.S. EPA, Assessment and Standards Division, 2000 Traverwood Drive, Ann Arbor, MI 48105-2498, or by E-Mail at herzog.jeff@epa.gov

This proposed rule and the accompanying direct final rule are available electronically on the day of publication from the EPA Federal Register internet Web site listed below. Prepublication electronic copies of these notices are also available from the EPA Office of Transportation and Air Quality Web site listed below. This service is free of charge, except for any cost that you already incur for internet connectivity.

Federal Register Web Site:

http://www.epa.gov/docs/fedrgstr/EPA-AIR/ (Either select desired date or use Search feature.)

Office of Transportation and Air Quality Web Site:

http://www.epa.gov/otaq/ (Look in “What's New” or under the specific rulemaking topic.)

Please note that due to differences between the software used to develop the document and the software into which the document may be downloaded, changes in format, page length, etc. may occur.

FOR FURTHER INFORMATION CONTACT: Jeff Herzog, U.S. Environmental Protection Agency, Assessment and Standards Division, 2000 Traverwood, Ann Arbor, MI, 48105-2498. Telephone (734) 214-4227; Fax (734) 214-4816; E-Mail herzog.jeff@epa.gov

SUPPLEMENTARY INFORMATION: This document concerns proposes changes to the requirements on variability in the composition of additives certified under the gasoline deposit control additive program. For further information, including the rationale, administrative requirements, statutory authority, and regulatory text for these technical amendments, please see the information provided in the direct final action that is located in the “Rules and Regulations” section of this Federal Register publication.

Administrative Requirements

A. Administrative Designation

Under Executive Order 12866 (58 FR 51735, October 4, 1993), the Agency must determine whether this regulatory action is “significant” and therefore subject to OMB review and the requirements of the Executive Order. The Order defines a “significant regulatory action” as one that is likely to result in a rule that may:

(1) Have an annual effect on the economy of $100 million or more or adversely affect in a material way the economy, a sector of the economy, productivity, competition, jobs, the environment, public health or safety, or State, local, or tribal governments or communities;

(2) create a serious inconsistency or otherwise interfere with an action taken or planned by another agency;

(3) materially alter the budgetary impact of entitlements, grants, user fees, or loan programs or the rights and obligations of recipients thereof; or

(4) raise novel legal or policy issues arising out of legal mandates, the President's priorities, or the principles set forth in the Executive Order.

EPA has determined that this rule is not a “significant regulatory action” under the terms of Executive Order 12866 and is therefore not subject to OMB review.

B. Regulatory Flexibility

EPA determined that it is not necessary to prepare a regulatory flexibility analysis in connection with this rule. Today's proposed rule would not have a significant impact on a substantial number of small entities. Today's rule would simplify the requirements for additive manufacturers under the gasoline deposit control program and would not impose any significant new requirements. The regulatory changes in today's rule would reduce the burden of compliance for all affected parties.

C. Unfunded Mandates Reform Act

Title II of the Unfunded Mandates Reform Act of 1995 (UMRA), Public Law 104-4, establishes requirements for federal agencies to assess the effects of their regulatory actions on State, local, and tribal governments and the private sector. Under sections 202 and 205 of the UMRA, EPA generally must prepare a written statement to accompany any proposed and final rule that includes a federal mandate that may result in expenditures by state, local, and tribal governments in the aggregate, or by the private sector, of $100 million or more for any one year. Before promulgating an EPA rule for which a written statement is needed, section 205 of the UMRA generally requires EPA to identify and consider a reasonable number of regulatory alternatives and adopt the least costly, most cost effective, or least burdensome alternative that achieves the objectives of the rule. The provisions of section 205 do not apply when they are inconsistent with applicable law. Moreover, section 205 allows EPA to adopt an alternative other than the least costly, most cost effective, or least burdensome alternative if the Administrator publishes with the final rule an explanation of why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant federal intergovernmental mandates, and informing, educating, and advising small governments on compliance with the regulatory requirements.

Today's rule contains no federal mandates (under the regulatory provisions of Title II of the UMRA) for State, local, or tribal governments. This proposed rule would impose no enforceable duties on any of these governmental entities. Nothing in the regulatory provisions in this proposed rule would significantly or uniquely affect small governments. EPA has determined that this rule does not contain a federal mandate that may result in expenditures of $100 million or more in any one year for State, local, and tribal governments in the aggregate, or the private sector in any one year. The amendments contained in this proposed rule would simplify the requirements under the gasoline deposit control program, and do not impose any significant new requirements.

D. Compliance With the Paperwork Reduction Act

Today's proposed rule would not impose any new information collection burden. No new information collection requirements would result from the implementation of the provisions which are the subject of this action.

The Office of Management and Budget (OMB) has previously approved the information collection requirements of the EPA's Gasoline Deposit Control Additive Program contained in 40 CFR Part 80 under the provisions of the Paperwork Reduction Act, 44 U.S.C. 3501 et seq. and has assigned OMB control number 2060-0275 (EPA ICR No. 1655.04). Today's proposed rule would not result in a change in the requirements contained in this ICR.

Burden means the total time, effort, or financial resources expended by persons to generate, maintain, retain, or disclose or provide information to or for a federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Copies of the ICR documents may be obtained from Sandy Farmer, Information Policy Branch; EPA; 401 M St., SW. (mail code 2136); Washington, DC 20460 or by calling (202) 260-2740. Include the ICR and/or OMB number in any correspondence.

E. Compliance With Executive Order 13045

This proposed rule is not subject to Executive Order 13045, entitled “Protection of Children from Environmental Health Risks and Safety Risks” (62 FR 19885, April 23, 1997), because it does not involve decisions on environmental health risks or safety risks that may disproportionately affect children.

F. Executive Order 13211 (Energy Effects)

This rule is not subject to Executive Order 13211, “Actions Concerning Regulations That Significantly Affect Energy Supply, Distribution, or Use” (66 FR 28355 (May 22, 2001)) because it is not a significant regulatory action under Executive Order 12866.

G. Consultation and Coordination With Indian Tribal Governments

On January 1, 2001, Executive Order 13084 was superseded by Executive Order 13175. However, this proposed rule was developed during the period when Executive Order 13084 was still in force, and so tribal considerations were addressed under Executive Order 13084. In the event that adverse comments are received on this proposal, we will address any such comments received in a subsequent final rule based on the proposed rule. Development of such a subsequent final rule will address tribal considerations under Executive Order 13175.

Under Executive Order 13084, EPA may not issue a regulation that is not required by statute, that significantly or uniquely affects the communities of Indian tribal governments, and that imposes substantial direct compliance costs on those communities, unless the federal government provides the funds necessary to pay the direct compliance costs incurred by the tribal governments. If the mandate is unfunded, EPA must provide to the Office of Management and Budget, in a separately identified section of the preamble to the rule, a description of the extent of EPA's prior consultation with representatives of affected tribal governments, a summary of the nature of their concerns, and a statement supporting the need to issue the regulation. In addition, Executive Order 13084 requires EPA to develop an effective process permitting elected and other representatives of Indian tribal governments “to provide meaningful and timely input in the development of regulatory policies on matters that significantly or uniquely affect their communities.”

This proposed rule would not significantly or uniquely affect the communities of Indian tribal governments. As noted above, this proposed rule would make minor technical changes to federal regulations that would be implemented at the federal level and affects only obligations on private industry. Accordingly, the requirements of Executive Order 13084 do not apply to this rule.

H. National Technology Transfer and Advancement Act

Section 12(d) of the National Technology Transfer and Advancement Act of 1995 (“NTTAA”), Public Law 104-113, Section 12(d) (15 U.S.C. 272 note) directs EPA to use voluntary consensus standards in its regulatory activities unless doing so would be inconsistent with applicable law or would be otherwise impractical. Voluntary consensus standards are technical standards (e.g., materials specifications, test methods, sampling procedures, and business practices) that are developed or adopted by voluntary consensus standards bodies. NTTAA directs EPA to provide Congress, through OMB, explanations when the Agency decides not to use available and applicable voluntary consensus standards. This proposed rule does not involve technical standards. Therefore, EPA did not consider the use of any voluntary consensus standards.

I. Executive Order 13132 (Federalism)

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This proposed rule does not have federalism implications. It will not have substantial direct effects on the States, on the relationship between the national government and the States, or on the distribution of power and responsibilities among the various levels of government, as specified in Executive Order 13132. Section 211(d)(4)(A) of the CAA prohibits States from prescribing or attempting to enforce controls or prohibitions respecting any fuel characteristic or component if EPA has prescribed a control or prohibition applicable to such fuel characteristic or component under Section 211(c)(1) of the Act. This rule merely modifies existing EPA detergent additive standards and therefore will merely continue an existing preemption of State and local law. Thus, Executive Order 13132 does not apply to this rule.

In the spirit of Executive Order 13132, and consistent with EPA policy to promote communications between EPA and State and local governments, EPA specifically solicits comment on this proposed rule from State and local officials.

List of Subjects in 40 CFR Part 80

Environmental protection, Fuel additives, Gasoline deposit control (detergent) additives, Gasoline, Motor vehicle pollution, Penalties, Reporting and recordkeeping requirements.

Dated: October 24, 2001.
Christine Todd Whitman,
Administrator.

[FR Doc. 01-27589 Filed 11-2-01; 8:45 am]

BILLING CODE 6560-50-P